DEPARTMENT OF THE TREASURY

Office of the Comptroller of the Currency

[Docket ID: OCC-2012-0019]

Mutual Savings Association Advisory Committee Meeting

AGENCY: Department of the Treasury, Office of the Comptroller of the Currency.

ACTION: Notice of Federal Advisory Committee Meeting.

SUMMARY: The Office of the Comptroller of the Currency (OCC) announces a meeting of the Mutual Savings Association Advisory Committee (MSAAC or Committee).

DATES: A public meeting of the MSAAC will be held on January 16, 2013, beginning at 8:30 a.m. Eastern Standard Time (EST).

ADDRESSES: The January 16, 2013, meeting of the MSAAC will be held at 400 7th Street SW., Washington, DC 20219.

FOR FURTHER INFORMATION CONTACT: Donna Deale, Deputy Comptroller for Thrift Supervision, (202) 874-5020, Office of the Comptroller of the Currency, Washington, DC 20219.

SUPPLEMENTARY INFORMATION: By this notice, the OCC is announcing that the OCC MSAAC will convene a meeting on Wednesday, January 16, 2013, at the OCC's headquarters at 400 7th Street SW., Washington, DC 20219. The OCC will hold a short administrative session from 8:00 a.m. to 8:30 a.m. EST. The meeting will begin and will be open to the public at 8:30 a.m. EST. Agenda items include a discussion of the status of the mutual savings association industry and current topics of interest to the industry. The purpose of the meeting is for the MSAAC to advise the OCC on the regulatory changes or other steps the OCC may be able to take to ensure the continued health and viability of mutual savings associations, and other issues of concern to the existing mutual savings associations. Members of the public may submit written statements to the MSAAC by any one of the following methods:

• Email to: MSAAC@occ.treas.gov; or

• Mail in triplicate to: Donna Deale, Designated Federal Official, Office of the Comptroller of the Currency, 400 7th Street SW., Washington, DC 20219.

The OCC must receive written statements no later than Friday, January 4, 2013. The meeting will be held in a secured facility with limited space. Therefore, members of the public who plan to attend the meeting, and members of the public who require auxiliary aid, must contact the OCC by 5:00 p.m. EST on Friday, January 4, 2013, to inform the OCC of their desire to attend the meeting and to provide the information that will be required to facilitate entry into the OCC building. Attendees should provide their full name, email address, and organization. Members of the public may contact the OCC via email at MSAAC@occ.treas.gov or by telephone at 202-874-5020. On the day of the meeting, attendees will be required to present proof of identification (a driver's license or other government issued photo identification) upon arrival at the OCC in order to gain entrance to the meeting.

Dated: December 4, 2012.
Thomas J. Curry,
Comptroller of the Currency.

[FR Doc. 2012-29919 Filed 12-11-12; 8:45 am]

BILLING CODE 4810-33-P